DEPARTMENT OF COMMERCE

National Oceanic and Atmospheric Administration

RIN 0648-XA37

Marine Mammals; File No. 978-1857

AGENCY: National Marine Fisheries Service (NMFS), National Oceanic and Atmospheric Administration (NOAA), Commerce.

ACTION: Notice; issuance of permit.

SUMMARY: Notice is hereby given that Dr. Paul Nachtigall, Hawaii Institute of Marine Biology, University of Hawaii, P.O. Box 1106, Kailua, Hawaii 96734, has been issued a permit to conduct research on three captive bottlenose dolphins (Tursiops truncatus) and one false killer whale (Pseudorca crassidens).

ADDRESSES: The permit and related documents are available for review upon written request or by appointment in the following offices:

Permits, Conservation and Education Division, Office of Protected Resources, NMFS, 1315 East-West Highway, Room 13705, Silver Spring, MD 20910; phone (301) 713-2289; fax (301) 427-2521; and

Pacific Islands Region, NMFS, 1601 Kapiolani Blvd., Rm 1110, Honolulu, HI 96814-4700; phone (808) 973-2935; fax (808) 973-2941.

FOR FURTHER INFORMATION CONTACT: Amy Sloan or Jaclyn Daly, (301) 713-2289.

SUPPLEMENTARY INFORMATION: On October 2, 2006, notice was published in the Federal Register (71 FR 57926) that a request for a scientific research permit to take the species identified above had been submitted by the above-named individual. The requested permit has been issued under the authority of the Marine Mammal Protection Act of 1972, as amended (16 U.S.C. 1361 et seq.) and the regulations governing the taking and importing of marine mammals (50 CFR part 216).

The 5-year permit authorizes Dr. Nachtigall to conduct acoustic studies on captive marine mammals at the Hawaii Institute of Marine Biology. Research methods will employ the use of suction cup electrodes to measure auditory brainstem response, auditory evoked potentials, and temporary threshold shifts. Echolocation studies will also be conducted.

In compliance with the National Environmental Policy Act of 1969 (42 U.S.C. 4321 et seq.), a final determination has been made that the activity proposed is categorically excluded from the requirement to prepare an environmental assessment or environmental impact statement.

Dated: May 17, 2007.
P. Michael Payne,
Chief, Permits, Conservation and Education Division, Office of Protected Resources, National Marine Fisheries Service.

[FR Doc. E7-10071 Filed 5-23-07; 8:45 am]

BILLING CODE 3510-22-S